DEPARTMENT OF HEALTH AND HUMAN SERVICES

Announcing the Call for Nominations for the 2024 President's Council on Sports, Fitness & Nutrition Awards

AGENCY: Office of Disease Prevention and Health Promotion, Office of the Assistant Secretary for Health, Office of the Secretary, U.S. Department of Health and Human Services.

ACTION: Notice.

SUMMARY: The President's Council on Sports, Fitness & Nutrition (Council or PCSFN) is calling for nominations from the public for its three awards—the Lifetime Impact Award, the Community Leadership Award, and the PCSFN Hero Award. Nominations will be accepted through July 1, 2024.

DATES: Nominations will be accepted until 12 p.m. EDT on July 1, 2024.

ADDRESSES: Nominations will be accepted virtually. Information, including submission instructions, can be found at https://health.gov/pcsfn/programs-awards.

FOR FURTHER INFORMATION CONTACT: Rayhaan Merani, Executive Director, Office of the President's Council on Sports, Fitness & Nutrition, 1101 Wootton Parkway, Suite 420, Rockville, MD 20852; Phone: 240-453-8280; Email: Fitness@hhs.gov.

SUPPLEMENTARY INFORMATION:

Background: The President's Council on Sports, Fitness & Nutrition (PCSFN) is a Federal advisory committee with a mission to promote healthy eating and physical activity for all people, regardless of background or ability. The Council gives out awards to recognize individuals or organizations for their contributions to the advancement or promotion of physical activity, fitness, sports, or nutrition. Lifetime Achievement Awards and Community Leadership Awards were awarded annually between 2007-2016 and again in 2019. In 2024, the Council is updating the awards and adding a third category. The Lifetime Achievement Award will now be known as the Lifetime Impact Award, and the PCSFN Hero Award has been added. There are no changes to the Community Leadership Award. Awards will be distributed in fall 2024.

For instructions on how to nominate yourself or someone else, please visit https://health.gov/pcsfn/programs-awards.

Lifetime Impact Award: The President's Council on Sports, Fitness & Nutrition Lifetime Impact Award celebrates individuals whose careers have greatly contributed to the advancement or promotion of physical activity, fitness, sports, or nutrition nationwide. This year, the Council will honor up to 5 individuals with this award.

Factors considered in the selection process include:

• Alignment to the PCSFN mission to promote healthy eating and physical activity for all people, regardless of background or ability

• Span and scope of career

○ Length of service to the field

○ Quantitative impact of individual's work

○ Qualitative legacy of individual's work

Community Leadership Award: The President's Council on Sports, Fitness & Nutrition Community Leadership Award celebrates leaders who are building more vibrant and thriving communities through sports, physical activity, fitness, and nutrition-related programs. This year's Community Leadership Awards will honor up to 20 individuals or organizations working to uplift their communities, contributing to the community's overall well-being, and supporting all community members' potential to thrive. The word “community” may refer to an organization, sports league or team, business, city, or community-based group.

Factors considered in the selection process include:

• Alignment with the PCSFN mission to promote healthy eating and physical activity for all people, regardless of background or ability

• Lived or living experience with demonstrated knowledge and service to the community

• Overall impact on the community including demonstration of putting community learning into action through novel or innovative means to fill gaps within the community and reach those who aren't being reached through other efforts

• Description of meaningful achievements and consistent success in improving community health and wellbeing

PCSFN Hero Award: The President's Council on Sports, Fitness & Nutrition (PCSFN) Hero Award celebrates high profile individuals (e.g., influencers) who champion sports, physical activity, fitness, or nutrition and amplify messages that support the Council's mission to broad audiences. This year's PCSFN Hero Awards will honor up to 20 individuals.

Factors considered in the selection process include:

• Alignment with PCSFN mission to promote healthy eating and physical activity for all people, regardless of background or ability

• Reach of the individual's work as defined by presence and attention on outreach networks and platforms and demonstration of novel approaches to reach more than one community

• Approach to innovation to fill gaps within their domain and reach those who aren't being reached through other efforts

• Sphere of influence, including quantitative and qualitative descriptions of impact or change made as a result of the nominee's efforts

The regulations at 1 CFR 22.2 authorize Office of Disease Prevention and Health Promotion to issue this notice.

Paul Reed,
Deputy Assistant Secretary for Health, Office of Disease Prevention and Health Promotion.

[FR Doc. 2024-11176 Filed 5-22-24; 8:45 am]

BILLING CODE 4150-32-P